NATIONAL SCIENCE FOUNDATION

Proposal Review Panel for Physics; Notice of Meeting

In accordance with the Federal Advisory Committee Act (Pub. L. 92-463, as amended), the National Science Foundation (NSF) announces the following meeting:

Name and Committee Code: Proposal Review Panel for Physics (1208)—Site Visit.

Dates and Times: June 13-14, 2017; 8:15 a.m.-6:00 p.m. June 15, 2017; 8:15 a.m.-12:00 p.m.

Place: LIGO Hanford Observatory in Richland, WA 99352-0159.

Type of Meeting: Part Open.

Contact Person: Dr. Mark Coles, Project Manager, Division of Physics/MPS, NSF 4201 Wilson Blvd., Arlington, VA 22230; (703) 292-4432.

Purpose of Meeting: Site visit to provide advice and recommendations concerning the LIGO project for continued financial support.

Agenda

Tuesday, June 13, 2017; 8:15 a.m.-6:00 p.m.

8:15 a.m. Breakfast, panel sign-in

8:45 a.m. Executive session—charge and agenda (Closed)

Overview Session I (9:00 a.m.-12:00 p.m.)

9:00 a.m.-9:30 a.m. Welcome, Overview of LIGO Operations (25+5)

9:30 a.m.-10:15 a.m. LIGO Operations Performance: Accomplished vs Planned (30+15)

10:15 a.m.-10:30 a.m. Break

10:30 a.m.-11:15 a.m. Progress in Detector Commissioning & Enhancements, Plans and Timelines (35+10)

11:30 a.m.-12:00 p.m. LIGO Computing (35 +10)

12:00 p.m.-1:00 p.m. Lunch

1:00 p.m.-2:30 p.m. Tour of Hanford Facility for Review Committee

Overview Session II (2:30 p.m.-6:00 p.m.)

2:30 p.m.-3:15 p.m. LIGO Operations: Scope and Budget

3:15 p.m.-4:00 p.m. Plans for Enhancing LIGO's Sensitivity (35 +10)

4:00 p.m.-4:15 p.m. Break

4:15 p.m.-5:30 p.m. Review Committee Executive Session (Closed)

6:30 p.m. Dinner, location TBD

Wednesday, June 14, 2017; 8:18 a.m.-6:00 p.m.

8:15 a.m. Breakfast, panel sign-in

Morning Parallel Breakout Sessions

9:00 a.m.-12:00 p.m. Parallel Breakout Session I: Management, Budgets

(a) LIGO Operations Risk Management

(b) Performance Metrics

(c) Activity-based Operations Budgets

Parallel Breakout Session II: Interferometer Commissioning

(a) Post O2 Detector Commissioning at Hanford

(b) Post O2 Detector Commissioning at Livingston

(c) Scattered Light Mitigation

(d) Detailed Squeezer Implementation Plan

12:00 p.m.-1:00 p.m. Lunch

Afternoon Parallel Breakout Sessions

1:00 p.m.-3:00 p.m. Parallel Breakout Session III: LIGO Computing

(a) Progress on LIGO data analysis computing optimization

(b) Data Management Plan/LIGO Open Science Center

(c) LIGO Data Grid

Parallel Breakout Session IV: Detector Enhancements

(a) Progress on Optical Coating Research for A+

(b) LIGO Scientific Collaboration Instrument Science Program

3:00 p.m.-6:00 p.m. Executive session—Committee report writing (Closed) Dinner on your own

Thursday, June 15, 2017; 8:15 a.m.-12:00 p.m.

8:15 a.m. Breakfast, panel sign-in

9:00 a.m.-9:30 a.m. Responses to Committee questions (if needed)

9:30 a.m.-11:00 a.m. Executive session—report writing (Closed)

11:00 a.m.-12:00 p.m. Committee Out-brief, Review close out

Reason for Late Notice: Due to unforeseen scheduling complications and the necessity to proceed with the review of the project.

Reason for Closing: Topics to be discussed and evaluated during closed portions of the site review will include information of a proprietary or confidential nature, including technical information and information on personnel. These matters are exempt under 5 U.S.C. 552b(c), (4) and (6) of the Government in the Sunshine Act.

Dated: May 22, 2017.
Suzanne Plimpton,
Acting Committee Management Officer.

[FR Doc. 2017-10791 Filed 5-25-17; 8:45 am]

BILLING CODE 7555-01-P